DEPARTMENT OF ENERGY

Federal Energy Regulatory Commission

Combined Notice of Filings

Take notice that the Commission has received the following Natural Gas Pipeline Rate and Refund Report filings:

Filings Instituting Proceedings

Docket Numbers: PR21-59-001.

Applicants: Arcadia Gas Storage, LLC.

Description: Submits tariff filing per 284.123(b),(e)/: MBR Authority Info Notice, Compliance Dkt. No. PR21-59-000 to be effective N/A.

Filed Date: 11/5/21.

Accession Number: 20211105-5193.

Comments/Protests Due: 5 p.m. ET 11/26/2021.

Docket Numbers: PR22-3-000.

Applicants: Permian Highway Pipeline LLC.

Description: Submits tariff filing per 284.123(b),(e)/: PHP Fuel Filing—Resubmittal to be effective 10/1/2021 under PR22-3 Filing.

Filed Date: 11/1/2021.

Accession Number: 20211101-5005.

Comments/Protests Due: 5 p.m. ET 11/22/2021.

Docket Numbers: RP21-100-005.

Applicants: National Grid, LNG, LLC.

Description: National Grid LNG, LLC submits tariff filing per 154 203 2021-10-29 Compliance filing to implement Settlement Tariff Sheets to be effective 5/1/2021.

Filed Date: 10/29/21.

Accession Number: 20211029-5212.

Comment Date: 11/12/21.

Docket Numbers: RP22-189-000.

Applicants: Gulf South Pipeline Company, LLC.

Description: § 4(d) Rate Filing: Housekeeping Change to Section 6.21.13 to be effective 12/6/2021.

Filed Date: 11/5/21.

Accession Number: 20211105-5077.

Comment Date: 5 p.m. ET 11/17/21.

Docket Numbers: RP22-190-000.

Applicants: East Tennessee Natural Gas, LLC.

Description: § 4(d) Rate Filing: Negotiated Rates—Nov 2021 Cleanup to be effective 12/5/2021.

Filed Date: 11/5/21.

Accession Number: 20211105-5100.

Comment Date: 5 p.m. ET 11/17/21.

Docket Numbers: RP22-191-000.

Applicants: B-R Pipeline, LLC.

Description: Compliance filing: Order No. 587-Z Compliance Filing to be effective 6/1/2022.

Filed Date: 11/5/21.

Accession Number: 20211105-5101.

Comment Date: 5 p.m. ET 11/17/21.

Docket Numbers: RP22-192-000.

Applicants: Eastern Shore Natural Gas Company.

Description: Compliance filing: NAESB Order 587-Z Version 3.2: Compliance Filing to be effective 6/1/2022.

Filed Date: 11/5/21.

Accession Number: 20211105-5161.

Comment Date: 5 p.m. ET 11/17/21.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP21-1188-002.

Applicants: Texas Eastern Transmission, LP.

Description: Compliance filing: TETLP Ministerial Compliance Filing to be effective 11/1/2021.

Filed Date: 11/5/21.

Accession Number: 20211105-5104.

Comment Date: 5 p.m. ET 11/17/21.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 8, 2021.
Debbie-Anne A. Reese,
Deputy Secretary.

[FR Doc. 2021-24852 Filed 11-12-21; 8:45 am]

BILLING CODE 6717-01-P